DEPARTMENT OF THE INTERIOR

Bureau of Land Management

[NM-932-4120-05; OKNM 104590]

Invitation To Participate; Exploration for Coal in Oklahoma

AGENCY: Bureau of Land Management, Interior

ACTION: Notice.

SUMMARY: Members of the public are hereby invited to participate with Farrell Cooper Mining Company on a pro rata cost sharing basis, in a program for the exploration of coal deposits owned by the United States of America. The lands are located in Haskell County, Oklahoma, and are described as follows:

T. 10 N., R. 21 E., Indian Meridian

Sec. 1, S½, NE¼;

Sec. 12, NW¼, N½SW¼, SW¼SW¼, NW¼SE¼, W½NE, and NE¼NE¼;

Containing 920.00 acres, more or less.

Any parties electing to participate in this exploration program shall notify in writing, both the Sate Director, Bureau, of Land Management, NW Mexico State Office, P.O. Box 27115, Santa Fe, New Mexico 87502-0115, and Farrell Cooper Mining Company, P.O. Box 11050, Fort Smith, Arkansas 72917. such written notice must include a justification for wanting to participate and any recommended changes in the exploration plan with specific reasons for such changes. The notice must be received no later than 30-calendar days after the publication of this notice in the Federal Register.

This proposed exploration program is for the purpose of determing the quality and quantity of the coal in the area and will be conducted pursuant to an exploration plan to be approved by the Bureau of Land Management. A copy of the exploration plan as submitted by Farrel Cooper Mining company may be examined at the Bureau of land Management, New Mexico State Office, 1474 Rodeo Road, Santa Fe, New Mexico 87502, and the Tulsa Field Office, 7906 East 33rd Street, Suite 101, Tulsa, Oklahoma 74145.

Dated: June 1, 2000.
Carsten F. Goff,
Acting State Director.

[FR Doc. 00-14642 Filed 6-8-00; 8:45 am]

BILLING CODE 4310-84-M